DEPARTMENT OF COMMERCE

National Institute of Standards and Technology

Advanced Technology Program; Announcement of Public Meeting

AGENCY: National Institute of Standards and Technology, Commerce.

ACTION: Notice of public meeting.

SUMMARY: The National Institute of Standards and Technology (NIST) invites interested parties to attend a meeting on “Advanced Technology Development and Commercialization Opportunities.” The Advanced Technology Program (ATP) partners with industry on high-risk, high technology research in technologies ranging from advanced manufacturing to medicine and from advanced materials to microelectronics. This conference will bring together entrepreneurs, researchers, business specialists and program managers from business, universities and federal agencies to discuss R&D funding opportunities for taking a new product from the lab to the marketplace. This meeting is targeted to minority entrepreneurship.

DATES: The Conference will be held on December 4-5, 2000. The meeting begins at 9:00 am on December 4 and the meeting adjourns at 12:30 pm on December 5, 2000.

ADDRESSES: The meeting will be held at the Conference Center at Clark Atlanta University, Atlanta, Georgia.

FOR FURTHER INFORMATION CONTACT: For further information, you may telephone Rex Pelto at (301) 975-3918 or e-mail: rex.pelto@nist.gov.

SUPPLEMENTARY INFORMATION: The Omnibus Trade and Competitiveness Act of 1988 (Public Law 100-418, 15 U.S.C. 278n), amended by the American Technology Preeminence Act of 1991 (Public Law 102-245), directed the establishment of ATP. The purpose of the ATP is to assist United States businesses to carry out research and development on high-risk, high-pay-off, emerging and enabling technologies.

The workshops that will be offered at this meeting will help bridge each step along the high-risk technology development and commercialization path. In addition, minority entrepreneurs will present success stories. A number of federal agencies will be represented at this meeting, and corporations and federal agencies will also be available.

Information on the meeting agenda and registration requirements can be found at the following website: http://www.seeport.com/Conference/conferences.htm. The registration fee is $125.00 when received by November 28, 2000. (After November 28, the fee is $150.00). Registration includes bus transportation from the hotel to the university, coffee breaks, lunch and conference materials.

November 27, 2000.
Karen H. Brown,
Deputy Director.

[FR Doc. 00-30629 Filed 11-30-00; 8:45 am]

BILLING CODE 3510-13-M